NUCLEAR REGULATORY COMMISSION

10 CFR Part 72

[NRC-2023-0050 and NRC-2025-0070]

RIN 3150-AK93 and RIN 3150-AL33

List of Approved Spent Fuel Storage Casks: TN Americas LLC, NUHOMS® EOS Dry Spent Fuel Storage System, Certificate of Compliance No. 1042, Amendment Nos. 3 and 4; Corrections

AGENCY: Nuclear Regulatory Commission.

ACTION: Correcting amendments.

SUMMARY: The U.S. Nuclear Regulatory Commission (NRC) published two direct final rules in the Federal Register, which amended its spent fuel storage regulations by revising the NUHOMS® EOS Dry Spent Fuel Storage System listing within the “List of approved spent fuel storage casks” to include Amendment Nos. 3 and 4 to Certificate of Compliance No. 1042 on May 2, 2023 (88 FR 39119), and July 29, 2025 (90 FR 35640), respectively. Amendment No. 3 became effective on July 17, 2023, and Amendment No. 4 became effective on October 14, 2025. The technical specifications for the NUHOMS® EOS Dry Spent Fuel Storage System, Amendment Nos. 3 and 4 contained a typographical error. The purpose of this action is to correct the errors. The final rule contained minor errors in grammar, punctuation, and referencing. This document corrects the final rule by revising the sections that contain these errors.

DATES: The correction is effective February 2, 2026.

ADDRESSES: For Amendment No. 3, please refer to Docket ID NRC-2023-0050 and for Amendment No. 4, please refer to Docket ID NRC-2025-0070 when contacting the NRC about the availability of information for this action. You may obtain publicly-available information related to this action using any of the following methods:

• Federal Rulemaking Website: Go to http://www.regulations.gov and search for Docket IDs NRC-2023-0050 or NRC-2025-0070. Address questions about NRC dockets to Helen Chang; telephone: 301-415-3228; email: Helen.Chang@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin ADAMS Public Search.” For problems with ADAMS, please contact the NRC's Public Document Room (PDR) reference staff at 1-800-397-4209, 301-415-4737, or by email to PDR.Resource@nrc.gov. The ADAMS accession number for each document referenced (if it is available in ADAMS) is provided the first time that it is mentioned in the SUPPLEMENTARY INFORMATION section.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: John-Chau Nguyen, Office of Nuclear Material Safety and Safeguards, U.S. Nuclear Regulatory Commission, Washington, DC 20555-0001; telephone: 301-415-0262; email: John-Chau.Nguyen@nrc.gov.

SUPPLEMENTARY INFORMATION: The NRC published two direct final rules in the Federal Register on May 2, 2023 (88 FR 39119) and July 29, 2025 (90 FR 35598), respectively, amending its regulations in part 72 of title 10 of the Code of Federal Regulations (10 CFR) by revising the “List of approved spent fuel storage casks” to add Amendment Nos. 3 and 4 to Certificate of Compliance No. 1042 for the NUHOMS® EOS Dry Spent Fuel Storage System. Amendment No. 3 became effective on July 17, 2023, and Amendment No. 4 became effective on October 14, 2025. The technical specifications for these direct final rules contained an incorrect table number in section 4.4.4, the `Justification and Compensatory Measures' for reference ASME code section NB-5520.

On August 28, 2025, (ADAMS Accession No. ML25240B483), TN Americas LLC (TN) notified the U.S. Nuclear Regulatory Commission (NRC) staff that TN has identified an editorial, non-substantiative error which appears in the Proposed Technical Specifications of Amendment No. 5 to CoC No. 1042 and requested a correction to be included in the Final Technical Specifications for the subject Amendment. Specifically, TN requested that in section 4.4.4, the `Justification and Compensatory Measures' for reference ASME code section NB-5520 be revised to invoke Table NCA-7100-2, as opposed to the current listing of NCA-7000-1. In addition, TN also requested the correction be applied to the Technical Specifications of Amendments No. 3 and No. 4 of CoC No. 1042. The NRC staff confirmed that table NCA-7000-1 does not and has not appeared in ASME Code since the introduction of this text in the Final Technical Specifications of Amendment No. 3 to CoC No. 1042. However, Table NCA-7100-2 appears in ASME code endorsed by 10 CFR 50.55a since that time and contains the pertinent information on SNT-TC-1A indicated by the code case alternative.

The NRC is correcting the typographical error in Appendix A, section 4.4.4, the “Justification and Compensatory Measures” for reference ASME code section NB-5520 be revised to invoke Table NCA-7100-2, as opposed to the current listing of NCA-7000-1. This document corrects the final rule by revising the section that contains this error.

The NRC may post materials related to this document, including public comments, on the Federal rulemaking website at https://www.regulations.gov under Docket ID NRC-2023-0050 or NRC-2025-0070. In addition, the Federal rulemaking website allows members of the public to receive alerts when changes or additions occur in a docket folder. To subscribe: (1) navigate to the docket folder NRC-2025-0070; (2) click the “Subscribe” button; and (3) enter an email address and click on the “Subscribe” button.

Rulemaking Procedure

Under the Administrative Procedure Act (5 U.S.C. 553(b)), an agency may waive the normal notice and comment requirements if it finds, for good cause, that they are impracticable, unnecessary, or contrary to the public interest. As authorized by 5 U.S.C. 553(b)(3)(B), the NRC finds good cause to waive notice and opportunity for comment on the amendments because they will have no substantive impact and are of a minor and administrative nature dealing with a correction to a CFR section related to procedure and practice. Specifically, these amendments are to correct a minor editorial and non-substantive error. These amendments do not require action by any person or entity regulated by the NRC. Also, this final rule does not change the substantive responsibilities of any person or entity regulated by the NRC. Accordingly, for the reasons stated, the NRC finds, pursuant to 5 U.S.C. 553(d)(3), that good cause exists to make this rule effective upon publication.

List of Subjects in 10 CFR Part 72

Administrative practice and procedures, Hazardous waste, Indians, Intergovernmental relations, Nuclear energy, Penalties, Radiation protection, Reporting and recordkeeping requirements, Security measures, Spent fuel, Whistleblowing.

For the reasons set out in the preamble and under the authority of the Atomic Energy Act of 1954, as amended; the Energy Reorganization Act of 1974, as amended; the Nuclear Waste Policy Act of 1982, as amended; and 5 U.S.C. 552 and 553; the NRC is adopting the following amendment to 10 CFR part 72:

PART 72—LICENSING REQUIREMENTS FOR THE INDEPENDENT STORAGE OF SPENT NUCLEAR FUEL, HIGH-LEVEL RADIOACTIVE WASTE, AND REACTOR-RELATED GREATER THAN CLASS C WASTE

1. The authority citation for part 72 continues to read as follows:

Authority: Atomic Energy Act of 1954, secs. 51, 53, 57, 62, 63, 65, 69, 81, 161, 182, 183, 184, 186, 187, 189, 223, 234, 274 (42 U.S.C. 2071, 2073, 2077, 2092, 2093, 2095, 2099, 2111, 2201, 2210e, 2232, 2233, 2234, 2236, 2237, 2238, 2273, 2282, 2021); Energy Reorganization Act of 1974, secs. 201, 202, 206, 211 (42 U.S.C. 5841, 5842, 5846, 5851); National Environmental Policy Act of 1969 (42 U.S.C. 4332); Nuclear Waste Policy Act of 1982, secs. 117(a), 132, 133, 134, 135, 137, 141, 145(g), 148, 218(a) (42 U.S.C. 10137(a), 10152, 10153, 10154, 10155, 10157, 10161, 10165(g), 10168, 10198(a)); 44 U.S.C. 3504 note.

2. In § 72.214, Certificate of Compliance 1042 is revised to read as follows:

§ 72.214 List of approved spent fuel storage casks.

* * * * *

Certificate Number: 1042.

Initial Certificate Effective Date: June 7, 2017.

Amendment Number 1 Effective Date: June 17, 2020.

Amendment Number 2 Effective Date: October 26, 2021.

Amendment Number 3 Effective Date: July 17, 2023.

Amendment Number 4 Effective Date: October 14, 2025.

SAR Submitted by: TN Americas LLC.

SAR Title: Final Safety Analysis Report for the NUHOMS® EOS Dry Spent Fuel Storage System.

Docket Number: 72-1042.

Certificate Expiration Date: June 7, 2037.

Model Number: EOS-37PTH, EOS-89BTH, 61BTH Type 2.

* * * * *

Dated: January 28, 2026.
For the Nuclear Regulatory Commission.
Araceli Billoch Colon,
Chief, Regulatory Analysis and Rulemaking Support Branch, Division of Rulemaking, Environmental, and Financial Support Office of Nuclear Material Safety and Safeguards.

[FR Doc. 2026-01948 Filed 1-30-26; 8:45 am]

BILLING CODE 7590-01-P